ENVIRONMENTAL PROTECTION AGENCY

[ER-FRL-6673-6]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in FR dated April 1, 2005 (70 FR 16815).

Draft EISs

EIS No. 20050510, ERP No. D-FHW-D40334-VA, I-81 Corridor Improvement Study in Virginia, Transportation Improvements from the Tennessee Border to the West Virginia Border, (Tier 1), Several Counties, VA and WV.

Summary: EPA expressed environmental concerns about the proposed project arising from the reliability of projecting traffic data to the year 2035, and the lack of data in the Tier 1 document to support the intended Tier 1 decisions. Rating EC2.

EIS No. 20050511, ERP No. D-DOE-D09800-PA, Gilberton Coal-to-Clean Fuels and Power Project, Construction and Operation a New Demonstration Plant, Schuylkill County, PA.

Summary: EPA expressed environmental concerns about the uncertainty and lack of information related to cumulative impacts of the various emissions associated with the facility, fugitive dust associated with construction activities, and a need for greater emphasis on public outreach and community involvement efforts. Rating EC2.

EIS No. 20060010, ERP No. D-IBR-G31003-NM, Long-Term Miscellaneous Purposes Contract Abstract, To Use Carlsbad Project Water for Purposes Other than Irrigation, Eddy County, NM.

Summary: EPA does not object to the proposed action. Rating LO.

EIS No. 20060023, ERP No. D-IBR-G39046-00, Upper Rio Grande Basin Water Operations Review, To Develop an Integrated Plan for Water Operations at the Existing Facilities, NM, CO and TX.

Summary: EPA does not object to the selected alternative. Rating LO.

EIS No. 20060028, ERP No. D-DOD-G11046-NM, Programmatic—Defense Threat Reduction Agency (DTRA) Activities on White Sands Missile Range (WSMR), Implementation, NM.

Summary: EPA does not object to the selected alternative. Rating LO.

Final EISs

EIS No. 20060040, ERP No. F-FHW-L40203-AK, Juneau Access Transportation Project, Improvements in the Lynn Canal/Taiya Inlet Corridor between Juneau and Haines/Skagway, Special-Use-Permit and COE Section 10 and 404 Permits, Tongass National Forest, Klondike Gold Rush National Historic Park, Haines States Forest, City and Borough of Juneau, Haines Borough, Cities Haines and Skagway, AK.

Summary: EPA has environmental concerns about the new preferred Alternative 2B due to uncertainty about whether it represents the Least Environmentally Damaging Practicable Alternative (LEDPA) based on Section 404(b)(1) Guidelines. EPA also recommends including additional compensatory mitigation for unavoidable impacts to old growth habitat areas.

EIS No. 20050417, ERP No. FS-COE-D35057-MD, Poplar Island Environmental Restoration Project, Habitat Restoration and Dredged Material Capacity, Chesapeake Bay, Talbot County, MD.

Summary: EPA's comments on the Draft EIS were adequately addressed; we have no objections to the proposed action.

Dated: March 21, 2006.
Robert W. Hargrove,
Director, NEPA Compliance Division, Office of Federal Activities.

[FR Doc. E6-4300 Filed 3-23-06; 8:45 am]

BILLING CODE 6560-50-P